DEPARTMENT OF COMMERCE

National Oceanic and Atmospheric Administration

RIN: 0648-XI08

Mid-Atlantic Fishery Management Council; Public Meetings

AGENCY: National Marine Fisheries Service (NMFS), National Oceanic and

Atmospheric Administration (NOAA), Commerce.

ACTION: Notice of public meetings.

SUMMARY: The Mid-Atlantic Fishery Management Council (Council), its Squid, Mackerel, Butterfish Committee; its Demersal Committee; its Law Enforcement Committee; Surfclam/Ocean Quahog Committee; its Science and Statistical Committee; its Executive Committee; its Bycatch/LAPP Committee; and, its Joint Spiny Dogfish Committee, will hold public meetings.

DATES: The meetings will be held on Monday, June 9, 2008 through Thursday, June 12, 2008. See SUPPLEMENTARY INFORMATION for specific dates and times.

ADDRESSES: The meetings will be held at the Sheraton Convention Center Hotel, Two Miss America Way, Atlantic City, NJ 08401; telephone: (609) 344-3535.

Council address: Mid-Atlantic Fishery Management Council, 300 S. New St., Room 2115, Dover, DE 19904; telephone: (302) 674-2331.

FOR FURTHER INFORMATION CONTACT: Daniel T. Furlong, Executive Director, Mid-Atlantic Fishery Management Council; telephone: (302) 674-2331 ext. 19.

SUPPLEMENTARY INFORMATION: On Monday, June 9, the Squid, Mackerel, Butterfish Committee with Advisors will meet from 10 a.m. until 5 p.m. There will be a concurrent session of the Demersal Committee from 2 p.m. until 5 p.m. A Squid, Mackerel, Butterfish public hearing on Amendment 10 to the Squid, Mackerel, Butterfish Fishery Management Plan will be held from 7 p.m. until 8:30 p.m.

On Tuesday, June 10, the Squid, Mackerel, Butterfish Committee with Advisors will meet from 8 a.m. until 11 a.m. The Law Enforcement Committee will meet from 11 a.m. until 12:30 p.m. The Surfclam, Ocean Quahog and Tilefish Committee with Advisors will meet from 1:30 p.m. until 3:30 p.m. A tour of a local clam dock facility and operations thereof will be held from 3:30 p.m. until 5:30 p.m. The New England Fishery Management Council will hold an Atlantic Herring Fishery Management Plan scoping meeting on Amendment 4 to the FMP from 6 p.m. until 7:30 p.m.

On Wednesday, June 11, the Scientific and Statistical and Research Set-Aside Committees will meet jointly from 8 a.m. until 12 p.m. The Council will convene at 1 p.m. until 3 p.m. to conduct its Business Session and receive Organizational, Liaison, Executive Director and Status of Fishery Management Plan reports. From 3 p.m. until 5:30 p.m. the Council will develop and adopt specifications regarding the 2009 fishing year for Squid, Mackerel, and Butterfish.

On Thursday, June 12, the Executive Committee will meet from 8 a.m. until 9 a.m. The Bycatch/LAPP Committee will meet from 9 a.m. until 10 a.m. The Joint Spiny Dogfish Committee will meet from 10 a.m. until 11:30 a.m. The Council will convene at 12:30 p.m. to adopt any changes to the Surfclam and Ocean Quahog specifications for 2009 and 2010 fishing years; receive a presentation regarding the integration of National Environmental Policy Act requirements into the Magnuson-Stevens Act; receive Committee reports; and, conduct continuing and new business.

Agenda items by day for the Council's Committees and the Council itself are:

Monday, June 9 - the Squid, Mackerel, and Butterfish Committee with Advisors will address Amendment 11 (mackerel limited entry system) and Annual Catch Limits (ACL) and Accountability Measures (AM). The Demersal Committee will review measures to be included in Amendment 15 and address accommodation of ACL/AM. There will be an evening public hearing regarding Amendment 10 to the Squid, Mackerel, and Butterfish Fishery Management Plan (FMP).

Tuesday, June 10 - The Squid, Mackerel, and Butterfish Committee with Advisors will meet to review the Monitoring Committee's recommendations and Science and Statistical Committee advice for 2009 quota levels and associated management measures and then develop 2009 quota specifications and associated management measures for Council consideration and action. The Law Enforcement Committee will discuss issues regarding the enforceability of slot limits in the recreational sector, review the USCG's Proposed Rule on Vessel Safety/Stability, and discuss issues regarding the enforceability of possession limits for multiple day trips. The Surfclam, Ocean Quahog and Tilefish Committee with Advisors will review staff recommendations for changes to the 2009-10 quota specifications and associated management measures for surfclams and ocean quahogs, and discuss issues to be addressed in Amendment 14 including accommodation of ACL/AM. A tour of a local clam boat and associated dock facility will then be provided.

Beginning at 6 p.m. the New England Fishery Management Council will conduct a scoping meeting for development of Amendment 4 to the Herring Fishery Management Plan. Amendment 4 will focus on issues related to catch monitoring (landings and discards); Magnuson-Stevens Reauthorization Act requirements such as Annual Catch Limits and Accountability Measures; and, sector allocations and/or other Limited Access Privilege Programs. The Council is seeking comments on the scope of issues to be addressed in Amendment 4 and the kinds of management measures that should be considered.

Wednesday, June 11 - the Scientific and Statistical Committee will meet with the Research Set-Aside Committee to establish multi-year research priorities for the 2009-13 time period, and review and discuss outcomes from the Special Science and Statistical Committee Working Group meeting. The Council will then convene to receive various reports, and review, develop, and adopt the Squid, Mackerel, and Butterfish Committee's recommendations regarding quota specifications and associated management measures for the 2009 fishing year.

Thursday, June 12 - the Executive Committee will review highlights of the Coordinating Council meeting and revise the Council's Statement of Organization Practices and Procedures (SOPP) relative to “deeming” requirements. The Bycatch/LAPP Committee will review the first draft of the Council's bycatch pamphlet concerning catch and release practices, and discuss Standardized Bycatch Reporting Methodology Observer Coverage Priorities for 2008. The Joint Spiny Dogfish Committee will review proposed measures in Framework 2 to the Spiny Dogfish FMP. The Council will convene to review and adopt the Surfclam and Ocean Quahog Committee's recommendations for necessary changes to 2009 and 2010 quota specifications and associated management measures (years 2 and 3 of the existing 2008-10 multi-year quota specifications). The Council will then receive a presentation by a National Marine Fisheries Service Official regarding the Agency's Proposed Rule to Integrate National Environment Policy Act (NEPA) requirements into Magnuson-Stevens Act (MSA). The Council will then receive Committee Reports, and consider any continuing or new business.

Although non-emergency issues not contained in this agenda may come before the Council for discussion, these issues may not be the subject of formal Council action during these meetings. Council action will be restricted to those issues specifically listed in this notice and any issues arising after publication of this notice that require emergency action under Section 305(c) of the Magnuson-Stevens Act, provided the public has been notified of the Council's intent to take final action to address such emergencies.

Special Accommodations

These meetings are physically accessible to people with disabilities. Requests for sign language interpretation or other auxiliary aid should be directed to M. Jan Bryan, (302) 674-2331, ext 18 at least 5 days prior to the meeting date.

Dated: May 19, 2008.
Emily Menashes,
Acting Director, Office of Sustainable Fisheries, National Marine Fisheries Service.

[FR Doc. E8-11579 Filed 5-22-08; 8:45 am]

BILLING CODE 3510-22-S